DEPARTMENT OF DEFENSE

Defense Acquisition Regulations System

[Docket Number DARS-2024-0003; OMB Control Number 0704-0483]

Information Collection Requirement; Defense Federal Acquisition Regulation Supplement (DFARS) Part 231, Independent Research and Development Technical Descriptions

AGENCY: Defense Acquisition Regulations System; Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: whether the proposed collection of information is necessary for the proper performance of the functions of DoD, including whether the information will have practical utility; the accuracy of DoD's estimate of the burden of the proposed information collection; ways to enhance the quality, utility, and clarity of the information to be collected; and ways to minimize the burden of the information collection on respondents, including through the use of automated collection techniques or other forms of information technology. The Office of Management and Budget (OMB) has approved this information collection for use under Control Number 0704-0483 through May 31, 2024. DoD proposes that OMB approve an extension of the information collection requirement, to expire three years after the approval date.

DATES: DoD will consider all comments received by March 26, 2024.

ADDRESSES: You may submit comments, identified by OMB Control Number 0704-0483, using either of the following methods:

○ Federal eRulemaking Portal: https://www.regulations.gov. Follow the instructions for submitting comments.

○ Email: osd.dfars@mail.mil. Include OMB Control Number 0704-0483 in the subject line of the message.

Comments received generally will be posted without change to https://www.regulations.gov, including any personal information provided.

FOR FURTHER INFORMATION CONTACT: Mr. Jon M. Snyder, at 703-945-5341.

SUPPLEMENTARY INFORMATION:

Title and OMB Number: Independent Research and Development Technical Descriptions; OMB Control Number 0704-0483.

Affected Public: Businesses or other for-profit and not-for-profit institutions.

Respondent's Obligation: Required to obtain or retain benefits.

Frequency: On occasion.

Number of Respondents: 79.

Responses per Respondent: 66.82.

Annual Responses: 5,279.

Average Burden per Response: 0.5 hour.

Annual Burden Hours: 2,640.

Needs and Uses: DFARS 231.205-18 requires contractors to report independent research and development (IR&D) projects to the Defense Technical Information Center (DTIC) using DTIC's online IR&D database. The inputs must be updated at least annually and when the project is completed. The data provide in-process information on IR&D projects for which DoD reimburses the contractor as an allowable indirect expense. In addition to improving DoD's ability to determine whether contractor IR&D costs are allowable, the data provide visibility into the technical content of industry IR&D activities to meet DoD needs.

Jennifer D. Johnson,
Editor/Publisher, Defense Acquisition Regulations System.

[FR Doc. 2024-01527 Filed 1-25-24; 8:45 am]

BILLING CODE 6001-FR-P